DEPARTMENT OF TRANSPORTATION

Federal Aviation Administration

14 CFR Part 71

[Docket No. FAA-2014-0986; Airspace Docket No. 14-AGL-14]

RIN 2120-AA66

Amendment of Multiple Air Traffic Service (ATS) Routes; North Central and Northeast United States

AGENCY: Federal Aviation Administration (FAA), DOT.

ACTION: Final rule, technical amendment.

SUMMARY: This action amends multiple high altitude Area Navigation (RNAV) routes (Q-routes) in the north central and northeast United States (U.S.) to change 13 fixes identified in the Q-routes to match waypoint (WP) characterizations contained in the FAA and Canadian aeronautical database information establishing the WPs. This action also amends the route termination point and geographic latitude/longitude position in RNAV route Q-822 to reflect changes made by Canada as part of its Windsor-Toronto-Montreal (WTM) airspace redesign effort.

DATES: Effective date 0901 UTC, January 8, 2015. The Director of the Federal Register approves this incorporation by reference action under 1 CFR part 51, subject to the annual revision of FAA Order 7400.9 and publication of conforming amendments.

ADDRESSES: FAA Order 7400.9Y, Airspace Designations and Reporting Points, and subsequent amendments can be viewed online at http://www.faa.gov/air_traffic/publications/. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15. For further information, you can contact the Airspace Policy and Regulations Group, Federal Aviation Administration, 800 Independence Avenue SW., Washington, DC 20591; telephone: 202-267-8783.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

History

On September 26, 2014, the FAA published in the Federal Register a final rule (79 FR 57758) that amended, removed, and established multiple ATS routes in the north central and northeast United States to reflect and accommodate route changes being made in Canadian airspace as part of Canada's WTM airspace redesign project, and corrected a notice of proposed rulemaking (NPRM) publishing error. The rule also made a number of changes or corrections deemed necessary following the NPRM public comment period.

The FAA now has identified in the rule that the following 13 fixes in several route descriptions were established in the FAA and Canadian aeronautical databases as WPs: DUTSH, OH; RICCS, WV; WAYLA, NY; PUPPY, NY; ARKKK, NY; FABEN, NY; STOMP, NY; POSTS, MI; JOSSY, NY; KRAZZ, NY; AGNOB, Canada; LORKA, Canada; and ADVIK, Canada.

Additionally, the final route segment providing cross border connectivity between the U.S. and Canada for the RNAV route Q-822 description was changed within Canadian airspace by NAV CANADA due to route realignment requirements. Also in RNAV route Q-822, the TANGU, Canada, WP was changed to the SINVI, Canada, WP located in a new geographic latitude/longitude position.

This rule makes the corrections to be in concert with FAA and Canadian aeronautical databases.

The Rule

The FAA is amending Title 14, Code of Federal Regulations (14 CFR) part 71 by modifying RNAV routes Q-29, Q-69, Q-82, Q-84, Q-103, Q-140, Q-812, Q-818, Q-822, Q-907, Q-935, and Q-937. The RNAV route modifications correct fix characterizations to match FAA and Canadian aeronautical database information and support Canadian airspace redesign changes for routes into and out of the Winsor, Toronto, and Montreal areas within Canada to ensure safe and efficient across border connectivity.

The RNAV route modifications accomplished by this action are outlined below.

Q-29: Change the “DUTSH, OH FIX” to read “DUTSH, OH WP.”

Q-69: Change the “RICCS, WV FIX” to read “RICCS, WV WP.”

Q-82: Change the “WAYLA, NY FIX” to read “WAYLA, NY WP.”

Q-84: Change the “PUPPY, NY FIX” to read “PUPPY, NY WP.”

Q-103: Change the “RICCS, WV FIX” to read “RICCS, WV WP.”

Q-140: Change the “ARKKK, NY FIX” to read “ARKKK, NY WP.”

Q-812: Change the “FABEN, NY FIX” to read “FABEN, NY WP;” the “ARKKK, NY FIX” to read “ARKKK, NY WP;” and the “STOMP, NY FIX” to read “STOMP, NY WP.”

Q-818: Change the “STOMP, NY FIX” to read “STOMP, NY WP.”

Q-822: Change the route title to read “Q-822 “Flint, MI (FNT) to SINVI, Canada;” the “PUPPY, NY FIX” to read “PUPPY, NY WP;” and the “TANGU, Canada WP (lat. 44°50′58.00″ N., long. 063°58′43.00″ W.)” to read “SINVI, Canada WP (lat. 44°48′15.00″ N., long. 064°19′27.00″ W.).”

Q-907: Change the “POSTS, MI FIX” to read “POSTS, MI WP;” the “AGNOB, Canada FIX” to read “AGNOB, Canada WP;” the “LORKA, Canada FIX” to read “LORKA, Canada WP;” and the “ADVIK, Canada FIX” to read “ADVIK, Canada WP.”

Q-935: Change the “JOSSY, NY FIX” to read “JOSSY, NY WP;” and the “FABEN, NY FIX” to read “FABEN, NY WP.”

Q-937: Change the “TULEG, Canada WP” to read “TULEG, Canada FIX;” and the “KRAZZ, NY FIX” to read “KRAZZ, NY WP.”

Q-951: Change the “POSTS, MI FIX” to read “POSTS, MI WP.”

High altitude United States RNAV routes (Q-routes) are published in paragraph 2006 and high altitude Canadian RNAV routes (Q-routes) are published in paragraph 2007 of FAA Order 7400.9Y dated August 6, 2014, and effective September 15, 2014, which is incorporated by reference in 14 CFR 71.1. The high altitude United States and Canadian RNAV routes (Q-routes) listed in this rule will be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System. In addition, as this rule is correcting errors in certain Q routes and updating RNAV route Q-822 to accommodate changes by Canada that affect these routes, I find that notice and public procedure under 5 U.S.C. 553(b) are impractical, unnecessary and not in the public interest.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9Y, Airspace Designations and Reporting Points, dated August 6, 2014, and effective September 15, 2014, is amended as follows:

Paragraph 2006 United States Area Navigation Routes

* * * * *

Q-29 HARES, LA to DUVOK, Canada (Amended)
HARES, LA | WP | (Lat. 33°00′00.00″ N., long. 091°44′00.00″ W.)
BAKRE, MS | WP | (Lat. 33°53′45.85″ N., long. 090°58′04.75″ W.)
Memphis, TN (MEM) | VORTAC | (Lat. 35°00′54.42″ N., long. 089°58′59.55″ W.)
OMDUE, TN | WP | (Lat. 36°07′47.32″ N., long. 088°58′11.49″ W.)
SIDAE, KY | WP | (Lat. 37°20′00.00″ N., long. 087°50′00.00″ W.)
CREEP, OH | FIX | (Lat. 39°55′15.28″ N., long. 084°18′31.41″ W.)
KLYNE, OH | WP | (Lat. 40°41′54.46″ N., long. 083°18′44.19″ W.)
DUTSH, OH | WP | (Lat. 41°08′26.35″ N., long. 082°33′12.68″ W.)
WWSHR, OH | WP | (Lat. 41°20′34.09″ N., long. 082°03′05.76″ W.)
DORET, OH | FIX | (Lat. 41°48′05.90″ N., long. 080°35′04.64″ W.)
Jamestown, NY (JHW) | VOR/DME | (Lat. 42°11′18.99″ N., long. 079°07′16.70″ W.)
HANKK, NY | FIX | (Lat. 42°53′41.82″ N., long. 077°09′15.21″ W.)
GONZZ, NY | WP | (Lat. 43°05′22.00″ N., long. 076°41′12.00″ W.)
KRAZZ, NY | WP | (Lat. 43°25′00.00″ N., long. 074°18′00.00″ W.)
NIPPY, NY | FIX | (Lat. 43°41′23.08″ N., long. 073°58′06.74″ W.)
CABCI, VT | WP | (Lat. 44°49′19.94″ N., long. 071°42′55.14″ W.)
EBONY, ME | FIX | (Lat. 44°54′08.68″ N., long. 067°09′23.65″ W.)
DUNOM, ME | WP | (Lat. 44°54′06.95″ N., long. 067°00′00.00″ W.)
DUVOK, Canada | WP | (Lat. 44°55′37.33″ N., long. 065°17′11.66″ W.)
Excluding the portion within Canada.
* * * * * * *
Q-69 BLANN, SC to RICCS, WV (Amended)
BLAAN, SC | WP | (Lat. 33°51′09.38″ N., long. 080°53′32.78″ W.)
RYCKI, NC | WP | (Lat. 36°24′43.05″ N., long. 080°25′07.50″ W.)
LUNDD, VA | WP | (Lat. 36°44′22.38″ N., long. 080°21′07.11″ W.)
ILLSA, VA | WP | (Lat. 37°38′55.85″ N., long. 080°13′18.44″ W.)
EWESS, WV | WP | (Lat. 38°21′50.31″ N., long. 080°06′52.03″ W.)
RICCS, WV | WP | (Lat. 38°55′14.65″ N., long. 080°05′01.68″ W.)
* * * * * * *
Q-82 WWSHR, OH to PONCT, NY (Amended)
WWSHR, OH | WP | (Lat. 41°20′34.09″ N., long. 082°03′05.76″ W.)
DORET, OH | FIX | (Lat. 41°48′05.90″ N., long. 080°35′04.64″ W.)
Jamestown, NY (JHW) | VOR/DME | (Lat. 42°11′18.99″ N., long. 079°07′16.70″ W.)
WAYLA, NY | WP | (Lat. 42°20′58.54″ N., long. 077°48′57.18″ W.)
VIEEW, NY | FIX | (Lat. 42°26′22.07″ N., long. 077°01′33.30″ W.)
MEMMS, NY | FIX | (Lat. 42°30′59.71″ N., long. 076°18′15.43″ W.)
LOXXE, NY | FIX | (Lat. 42°34′29.55″ N., long. 075°43′33.49″ W.)
PONCT, NY | WP | (Lat. 42°44′48.83″ N., long. 073°48′48.07″ W.)
Q-84 Jamestown, NY (JHW) to Cambridge, NY (CAM) (Amended)
Jamestown, NY (JHW) | VOR/DME | (Lat. 42°11′18.99″ N., long. 079°07′16.70″ W.)
AUDIL, NY | FIX | (Lat. 42°52′18.74″ N., long. 076°26′35.07″ W.)
PUPPY, NY | WP | (Lat. 43°03′26.46″ N., long. 075°17′39.29″ W.)
PAYGE, NY | FIX | (Lat. 43°00′50.48″ N., long. 074°15′12.76″ W.)
Cambridge, NY (CAM) | VOR/DME | (Lat. 42°59′39.40″ N., long. 073°20′38.50″ W.)
Q-103 Pulaski, VA (PSK) to AIRRA, PA (Amended)
Pulaski, VA (PSK) | VORTAC | (Lat. 37°05′15.74″ N., long. 080°42′46.44″ W.)
ASBUR, WV | FIX | (Lat. 37°49′24.41″ N., long. 080°27′51.44″ W.)
OAKLE, WV | FIX | (Lat. 38°07′13.80″ N., long. 080°21′44.84″ W.)
PERRI, WV | FIX | (Lat. 38°17′50.49″ N., long. 080°18′05.11″ W.)
PERKS, WV | FIX | (Lat. 38°39′40.84″ N., long. 080°10′29.36″ W.)
RICCS, WV | WP | (Lat. 38°55′14.65″ N., long. 080°05′01.68″ W.)
EMNEM, WV | WP | (Lat. 39°31′27.12″ N., long. 080°04′28.21″ W.)
AIRRA, PA | WP | (Lat. 41°06′16.48″ N., long. 080°03′48.73″ W.)
* * * * * * *
Q-140 WOBED, WA to YODAA, NY (Amended)
WOBED, WA | WP | (Lat. 48°36′01.07″ N., long. 122°49′46.52″ W.)
GETNG, WA | WP | (Lat. 48°25′30.57″ N., long. 119°31′38.98″ W.)
CORDU, ID | FIX | (Lat. 48°10′46.41″ N., long. 116°40′21.84″ W.)
PETIY, MT | WP | (Lat. 47°58′46.55″ N., long. 114°36′20.31″ W.)
CHOTE, MT | FIX | (Lat. 47°39′56.68″ N., long. 112°09′38.13″ W.)
LEWIT, MT | WP | (Lat. 47°23′00.21″ N., long. 110°08′44.78″ W.)
SAYOR, MT | FIX | (Lat. 47°13′58.34″ N., long. 104°58′39.28″ W.)
WILTN, ND | FIX | (Lat. 47°04′58.09″ N., long. 100°47′43.84″ W.)
TTAIL, MN | WP | (Lat. 46°41′28.00″ N., long. 096°41′09.00″ W.)
CESNA, WI | WP | (Lat. 45°52′14.00″ N., long. 092°10′59.00″ W.)
WISCN, WI | WP | (Lat. 45°18′19.45″ N., long. 089°27′53.91″ W.)
EEGEE, WI | WP | (Lat. 45°08′53.00″ N., long. 088°45′58.00″ W.)
DAYYY, MI | WP | (Lat. 44°10′10.00″ N., long. 084°22′23.00″ W.)
RUBKI, Canada | WP | (Lat. 44°14′56.00″ N., long. 082°15′25.99″ W.)
PEPLA, Canada | WP | (Lat. 43°47′51.00″ N., long. 080°01′02.00″ W.)
SIKBO, Canada | WP | (Lat. 43°39′13.00″ N., long. 079°20′57.00″ W.)
MEDAV, Canada | WP | (Lat. 43°29′19.00″ N., long. 078°45′46.00″ W.)
AHPAH, NY | WP | (Lat. 43°18′19.00″ N., long. 078°07′35.11″ W.)
HANKK, NY | FIX | (Lat. 42°53′41.82″ N., long. 077°09′15.21″ W.)
BEEPS, NY | FIX | (Lat. 42°49′13.26″ N., long. 076°59′04.84″ W.)
EXTOL, NY | FIX | (Lat. 42°39′27.69″ N., long. 076°37′06.10″ W.)
MEMMS, NY | FIX | (Lat. 42°30′59.71″ N., long. 076°18′15.43″ W.)
KODEY, NY | FIX | (Lat. 42°16′47.53″ N., long. 075°47′04.00″ W.)
ARKKK, NY | WP | (Lat. 42°03′48.52″ N., long. 075°19′00.41″ W.)
RODYY, NY | WP | (Lat. 41°52′25.85″ N., long. 074°35′49.39″ W.)
YODAA, NY | FIX | (Lat. 41°43′21.19″ N., long. 074°01′52.76″ W.)
Excluding the airspace within Canada.

* * * * *

Paragraph 2007 Canadian Area Navigation Routes (Amended)

Q-812 TIMMR, ND to GAYEL, NY (Amended)
TIMMR, ND | FIX | (Lat. 46°22′49.49″ N., long. 100°54′29.80″ W.)
WELOK, MN | WP | (Lat. 45°41′26.32″ N., long. 094°15′28.74″ W.)
CEWDA, WI | WP | (Lat. 44°48′32.00″ N., long. 088°33′00.00″ W.)
ZOHAN, MI | WP | (Lat. 43°55′57.00″ N., long. 084°23′09.00″ W.)
NOSIK, Canada | WP | (Lat. 43°59′00.00″ N., long. 082°11′52.30″ W.)
AGDOX, Canada | WP | (Lat. 43°17′01.71″ N., long. 079°05′29.29″ W.)
KELTI, NY | WP | (Lat. 43°16′57.00″ N., long. 078°56′00.00″ W.)
AHPAH, NY | WP | (Lat. 43°18′19.00″ N., long. 078°07′35.11″ W.)
GOATR, NY | WP | (Lat. 43°17′26.08″ N., long. 076°39′07.75″ W.)
Syracuse, NY (SYR) | VORTAC | (Lat. 43°09′37.87″ N., long. 076°12′16.41″ W.)
FABEN, NY | WP | (Lat. 42°51′12.04″ N., long. 075°57′07.91″ W.)
LOXXE, NY | FIX | (Lat. 42°34′29.55″ N., long. 075°43′33.49″ W.)
ARKKK, NY | WP | (Lat. 42°03′48.52″ N., long. 075°19′00.41″ W.)
STOMP, NY | WP | (Lat. 41°35′46.78″ N., long. 074°47′47.79″ W.)
MSLIN, NY | FIX | (Lat. 41°29′30.82″ N., long. 074°33′14.28″ W.)
GAYEL, NY | FIX | (Lat. 41°24′24.09″ N., long. 074°21′25.75″ W.)
Excluding the airspace within Canada.
* * * * * * *
Q-818 Flint, MI (FNT) to GAYEL, NY (Amended)
Flint, MI (FNT) | VORTAC | (Lat. 42°58′00.38″ N., long. 083°44′49.08″ W.)
TANKO, Canada | WP | (Lat. 43°01′32.00″ N., long. 082°22′43.00″ W.)
KITOK, Canada | WP | (Lat. 43°02′30.00″ N., long. 081°55′34.00″ W.)
DERLO, Canada | WP | (Lat. 43°03′59.00″ N., long. 081°05′43.00″ W.)
IKNAV, Canada | WP | (Lat. 42°57′43.00″ N., long. 078°59′04.00″ W.)
WOZEE, NY | WP | (Lat. 42°56′01.65″ N., long. 078°44′19.64″ W.)
KELIE, NY | FIX | (Lat. 42°39′37.32″ N., long. 077°44′41.05″ W.)
VIEEW, NY | FIX | (Lat. 42°26′22.07″ N., long. 077°01′33.30″ W.)
Binghampton, NY (CFB) | VORTAC | (Lat. 42°09′26.96″ N., long. 076°08′11.30″ W.)
BUFFY, PA | FIX | (Lat. 41°56′27.98″ N., long. 075°36′45.35″ W.)
STOMP, NY | WP | (Lat. 41°35′46.78″ N., long. 074°47′47.79″ W.)
MSLIN, NY | FIX | (Lat. 41°29′30.82″ N., long. 074°33′14.28″ W.)
GAYEL, NY | FIX | (Lat. 41°24′24.09″ N., long. 074°21′25.75″ W.)
Excluding the airspace within Canada.
Q-822 Flint, MI (FNT) to SINVI, Canada (Amended)
Flint, MI (FNT) | VORTAC | (Lat. 42°58′00.38″ N., long. 083°44′49.08″ W.)
TANKO, Canada | WP | (Lat. 43°01′32.00″ N., long. 082°22′43.00″ W.)
KITOK, Canada | WP | (Lat. 43°02′30.00″ N., long. 081°55′34.00″ W.)
DERLO, Canada | WP | (Lat. 43°03′59.00″ N., long. 081°05′43.00″ W.)
HOZIR, NY | WP | (Lat. 43°06′03.59″ N., long. 079°02′05.27″ W.)
GONZZ, NY | WP | (Lat. 43°05′22.00″ N., long. 076°41′12.00″ W.)
PUPPY, NY | WP | (Lat. 43°03′26.46″ N., long. 075°17′39.29″ W.)
PAYGE, NY | FIX | (Lat. 43°00′50.48″ N., long. 074°15′12.76″ W.)
Cambridge, NY (CAM) | VOR/DME | (Lat. 42°59′39.44″ N., long. 073°20′38.47″ W.)
Kennebunk, ME (ENE) | VOR/DME | (Lat. 43°25′32.42″ N., long. 070°36′48.69″ W.)
AJJAY, ME | WP | (Lat. 43°43′40.55″ N., long. 069°36′08.22″ W.)
ALLEX, ME | WP | (Lat. 44°25′00.00″ N., long. 067°00′00.00″ W.)
SINVI, Canada | WP | (Lat. 44°48′15.00″ N., long. 064°19′27.00″ W.)
Excluding the airspace within Canada.
* * * * * * *
Q-907 POSTS, MI to MIILS, Canada (Amended)
POSTS, MI | WP | (Lat. 42°18′00.00″ N., long. 085°02′00.00″ W.)
PADDE, MI | WP | (Lat. 42°17′09.00″ N., long. 084°28′28.00″ W.)
Salem, MI (SVM) | VORTAC | (Lat. 42°24′31.09″ N., long. 083°35′38.05″ W.)
DERLO, Canada | WP | (Lat. 43°03′59.00″ N., long. 081°05′43.00″ W.)
SIKBO, Canada | WP | (Lat. 43°39′13.00″ N., long. 079°20′57.00″ W.)
AGNOB, Canada | WP | (Lat. 44°12′03.30″ N., long. 077°30′07.20″ W.)
LORKA, Canada | WP | (Lat. 44°46′08.70″ N., long. 076°12′59.90″ W.)
ADVIK, Canada | WP | (Lat. 45°08′04.00″ N., long. 074°46′33.00″ W.)
ATENE, Canada | FIX | (Lat. 46°14′04.20″ N., long. 070°16′21.00″ W.)
MIILS, Canada | WP | (Lat. 46°52′42.00″ N., long. 067°02′09.00″ W.)
Excluding the airspace within Canada.
* * * * * * *
Q-935 MONEE, MI to Boston, MA (BOS) (Amended)
MONEE, MI | FIX | (Lat. 43°14′25.80″ N., long. 084°27′50.95″ W.)
HOCKE, MI | WP | (Lat. 43°15′43.38″ N., long. 082°42′38.27″ W.)
OMRAK, Canada | WP | (Lat. 43°16′06.00″ N., long. 082°16′25.00″ W.)
DERLO, Canada | WP | (Lat. 43°03′59.00″ N., long. 081°05′43.00″ W.)
IKNAV, Canada | WP | (Lat. 42°57′43.00″ N., long. 078°59′04.00″ W.)
WOZEE, NY | WP | (Lat. 42°56′01.65″ N., long. 078°44′19.64″ W.)
HANKK, NY | FIX | (Lat. 42°53′41.82″ N., long. 077°09′15.21″ W.)
JOSSY, NY | WP | (Lat. 42°53′29.93″ N., long. 077°02′36.80″ W.)
AUDIL, NY | FIX | (Lat. 42°52′18.74″ N., long. 076°26′35.07″ W.)
FABEN, NY | WP | (Lat. 42°51′12.04″ N., long. 075°57′07.91″ W.)
PONCT, NY | WP | (Lat. 42°44′48.83″ N., long. 073°48′48.07″ W.)
Gardner, MA (GDM) | VOR/DME | (Lat. 42°32′45.32″ N., long. 072°03′29.48″ W.)
Boston, MA (BOS) | VOR/DME | (Lat. 42°21′26.82″ N., long. 070°59′22.37″ W.)
Excluding the airspace within Canada.
Q-937 TULEG, Canada to KRAZZ, NY (Amended)
TULEG, Canada | WP | (Lat. 43°43′54.84″ N., long. 076°43′09.82″ W.)
WAYGO, NY | WP | (Lat. 43°25′00.00″ N., long. 075°55′00.00″ W.)
KRAZZ, NY | WP | (Lat. 43°25′00.00″ N., long. 074°18′00.00″ W.)
Excluding the airspace within Canada.
* * * * * * *
Q-951 POSTS, MI to PUXOP, Canada (Amended)
POSTS, MI | WP | (Lat. 42°18′00.00″ N., long. 085°02′00.00″ W.)
PADDE, MI | WP | (Lat. 42°17′09.00″ N., long. 084°28′28.00″ W.)
Salem, MI (SVM) | VORTAC | (Lat. 42°24′31.09″ N., long. 083°35′38.05″ W.)
DERLO, Canada | WP | (Lat. 43°03′59.00″ N., long. 081°05′43.00″ W.)
SIKBO, Canada | WP | (Lat. 43°39′13.00″ N., long. 079°20′57.00″ W.)
SANIN, Canada | WP | (Lat. 44°04′41.00″ N., long. 077°25′55.00″ W.)
OLABA, Canada | WP | (Lat. 44°28′35.00″ N., long. 076°12′12.00″ W.)
ALONI, Canada | WP | (Lat. 44°38′54.00″ N., long. 075°39′10.00″ W.)
DAVDA, NY | WP | (Lat. 44°43′27.00″ N., long. 075°22′28.20″ W.)
SAVAL, NY | WP | (Lat. 44°54′15.00″ N., long. 074°42′01.20″ W.)
TALNO, NY | WP | (Lat. 45°00′02.00″ N., long. 074°19′52.00″ W.)
RABIK, Canada | WP | (Lat. 45°17′56.00″ N., long. 072°36′37.00″ W.)
ANTOV, Canada | WP | (Lat. 45°22′35.00″ N., long. 071°02′15.00″ W.)
DANOL, ME | FIX | (Lat. 45°41′54.22″ N., long. 067°47′16.00″ W.)
PUXOP, Canada | WP | (Lat. 45°56′41.00″ N., long. 066°26′24.00″ W.)
Excluding the airspace within Canada.

Issued in Washington, DC, on December 1, 2014.
Gary A. Norek,
Manager, Airspace Policy & Regulations Group.

[FR Doc. 2014-28618 Filed 12-4-14; 8:45 am]

BILLING CODE 4910-13-P